DEPARTMENT OF TRANSPORTATION

Office of the Secretary

Minority Business Resource Center Advisory Committee; Cancellation of Meeting

Notice is hereby given of the cancellation of the Minority Business Resource Center Advisory Committee meeting for Tuesday, April 18, 2000, at 10:00 a.m. until 12:00 p.m. in Room 4438-4440 at the Department of Transportation, 400 7th Street, SW., Washington, DC 20590. (Originally announced at Vol. 65, No. 53, FR 14640, March 17, 2000.)

Issued in Washington, DC on March 27, 2000.
Luz A. Hopewell,
Director, Office of Small and Disadvantaged Business Utilization.

[FR Doc. 00-8324 Filed 4-4-00; 8:45 am]

BILLING CODE 4910-62-P